DEPARTMENT OF THE INTERIOR

Fish and Wildlife Service

50 CFR Part 91

[Docket No. FWS-HQ-MB-2015-0161; FXMB 12330900000//189//FF09M13200]

RIN 1018-BB23

Federal Migratory Bird Hunting and Conservation Stamp (Duck Stamp) Contest Regulations

AGENCY: Fish and Wildlife Service, Interior.

ACTION: Final rule.

SUMMARY: The U.S. Fish and Wildlife Service (Service or we) is revising regulations governing the annual Federal Migratory Bird Hunting and Conservation Stamp (Duck Stamp) Contest, also known as the Federal Duck Stamp Contest (Contest). We are updating our contact information, updating the common and scientific names of species on our list of Contest design subjects, correcting minor grammar errors, making changes to recognize technological advances in stamp design and printing, and instituting changes to design elements and judging requirements specific to the 2018 Contest.

DATES: This rule is effective March 21, 2018.

ADDRESSES: You can view the 2018 Contest Artist Brochure by one of the following methods:

• Duck Stamp Contest and Event Information: https://www.fws.gov/birds/get-involved/duck-stamp/duck-stamp-contest-and-event-information.php.

• Request a copy by contacting the person listed under FOR FURTHER INFORMATION CONTACT.

FOR FURTHER INFORMATION CONTACT: Suzanne D. Fellows, Federal Duck Stamp Office, U.S. Fish and Wildlife Service, Department of the Interior, MS:MB, 5275 Leesburg Pike, Falls Church, VA 22041-3803; (703) 358-2145; suzanne_fellows@fws.gov.

SUPPLEMENTARY INFORMATION:

Background

On March 16, 1934, Congress passed, and President Franklin D. Roosevelt signed, the Migratory Bird Hunting Stamp Act. Popularly known as the Duck Stamp Act, it required all waterfowl hunters 16 years or older to buy a stamp annually. The revenue generated from the sale of the stamp is used to buy or lease waterfowl habitat.

Since its enactment, the Federal Duck Stamp Program has become internationally known as one of the most popular and successful conservation programs ever initiated. Today, some 1.5 million stamps are sold each year and, as of 2017, Federal Duck Stamps have generated more than $1 billion for the preservation of approximately 6 million acres of waterfowl habitat in the United States. Numerous other birds, mammals, fish, reptiles, and amphibians have similarly prospered because of habitat conservation made possible by the program. Many of the Nation's endangered and threatened species find food or shelter on refuges preserved by Duck Stamp funds. Moreover, protected wetlands help dissipate storm water runoff, purify water supplies, store flood water, and nourish fish hatchlings important for sport and commercial fishermen.

The first Federal Duck Stamp was designed by Jay N. “Ding” Darling, a nationally known political cartoonist for the Des Moines Register and a noted hunter and wildlife conservationist. In subsequent years, noted wildlife artists were asked to submit designs. The first Federal Duck Stamp Contest was opened in 1949 to any U.S. artist who wished to enter. Regulations governing the Contest appear at 50 CFR part 91.

To select each year's design, a panel of noted art, waterfowl, and philatelic authorities is appointed by the Secretary of the Interior (Secretary). Winners receive no compensation for their work except for a pane of their stamps signed by the Secretary. However, artists maintain the copyright to their artwork and may sell prints of their designs, which are sought by hunters, conservationists, and art collectors.

An annual rules brochure is published to announce the Contest and provide artists with official entry forms, a list of five or fewer eligible species that may be depicted, and instructions for submitting entries. Any changes to the Contest regulations must be completed by going through the formal rulemaking process.

On February 11, 2016, we published a proposed rule (81 FR 7279) to revise the Duck Stamp Contest regulations. At that time, we proposed to update or correct contact information and other minor spelling or grammar errors, as well as specify a new requirement to include a second, appropriate, migratory bird species in the artwork design beginning with the 2016 Contest. However, we chose not to go forward with the proposed new Contest requirement.

On November 28, 2017, we published a revised proposed rule (82 FR 56201), which included further updates to the names of eligible species, updates to recognize technological advances in stamp design and printing, and a proposed requirement specific to the 2018 Contest. For the 2018 Contest, this proposed change would require the inclusion of waterfowl hunting-related accessories and/or themes in all qualified 2018 Contest entries; by portraying the theme “celebrating our waterfowl hunting heritage,” we would recognize the role of hunters in raising over $1 billion for waterfowl habitat conservation through the sale of Duck Stamps. The revised proposed rule opened a 30-day public comment period and invited comments on the proposed changes from artists, stamp collectors, and other members of the public.

Summary of Public Comments and Responses

We received 60 comments on the November 28, 2017, proposed rule (82 FR 56201). Several commenters simply expressed disapproval or support for the 2018 Contest rules. However, the majority had specific comments, which are grouped under appropriate subject-matter headings and addressed below.

Update to Eligible Species List

(1) Comment: One commenter thought that it was not necessary to include the scientific names of eligible species.

Service Response: We provide both common and scientific names of birds, as recognized by the American Ornithological Union, when publishing rules and when discussing species in official documents. This practice helps avoid confusion among readers who may use a different colloquial name for the species. These changes will be published in our final rule as proposed.

Proposed Requirements Specific to the 2018 Contest

(2) Comment: Several commenters indicated that they were in favor of the requirement that the 2019-20 Duck Stamp reference the theme “celebrating our waterfowl hunting heritage”. Many believed that it was important and long over-due to recognize hunters' contributions to conservation and the waterfowl hunting heritage.

Several other commenters expressed that they were against the proposed change for the 2018 Contest. Most believed that the current Contest regulations worked well to ensure that the best artwork is selected each year for the Federal Duck Stamp. Several commenters stated their belief that the Federal Duck Stamp already celebrates hunting, as the inclusion of hunting-related accessories, hunters, and hunting scenes are already permitted as part of the stamp design. Several believed that making such inclusion mandatory would jeopardize the stamp's appeal to non-hunters who are interested in purchasing the stamp as a way of supporting conservation. Many of those against the change for the 2018 Contest did not want the inclusion of hunting-related items to detract from the primary waterfowl focus of the stamp.

Other commenters expressed no strong opinion on the proposed change but were not supportive of a permanent change.

Service Response: We recognize that responses to the change proposed for the 2018 Contest are mixed. However, we believe this one-time change to recognize the contributions of hunters and hunting to waterfowl conservation is appropriate and will not negatively impact the Stamp or the Contest; therefore, we are making that proposal, which is specific only to the 2018 Contest, final in this rule.

Inclusion of a Theme

(3) Comment: Two commenters urged that any changes to, or requirements for, a theme be done only with careful consideration of all aspects of the stamp program, artists, and purchasers of the stamp. There were also suggestions that art changes be “recommended” rather than mandatory. The suggestion was made that proposed themes should have an intrinsic biological or conservation message. Several other commenters expressed their opinion that an appropriate Contest theme could bring increased exposure to the program, while other commenters believed that the inclusion of an annual theme would make a poor quality stamp and would not significantly improve the resulting design. Several also suggested that the inclusion of objects (such as humans or dogs) to satisfy the requirement of addressing the theme would detract from the natural beauty of the depicted waterfowl.

Service Response: The concept of having a theme to the Contest is not new. Previous themes have included “Retrievers Save Game,” “Wildlife Needs Water: Preserve Wetlands,” “Habitat Produces Ducks,” and “Ducks for Recreation.” Different themes have also been used in marketing the annual stamp. The extent to which the 2019-20 theme and stamp increases exposure to the Federal Duck Stamp Program will be contingent upon the ability of the Service and its partners to share our message with traditional audiences and others.

Regarding the inclusion of objects in the stamps, there are several examples of previous stamps that contain objects such as decoys, dogs, and hunters that have made memorable stamps. The judges' mandate has been, and will remain, that they choose the design that will best make an attractive Federal Duck Stamp.

Hunter Recognition

(4) Comment: Several commenters approved of recognizing our hunting heritage and applauded the Service for recognizing the huge financial commitment hunters annually put toward wildlife conservation. Several other commenters believed that the best way to keep support for ethical hunting is to actively educate and show others that hunters also care about wildlife and healthy ecosystems.

Service Response: The recognition of waterfowl hunters' contributions to wildlife and habitat conservation will further the Department of the Interior's priorities of hunter retention and recruitment, and of increased sportsperson access on public lands. By focusing on the long heritage of waterfowl hunting on the 2019-20 Federal Duck Stamp, we acknowledge the contributions of other hunters, anglers, and shooters as conservationists.

Further, upon its conception in 1934, the proper name of the Federal Duck Stamp was the “Migratory Bird Hunting Stamp.” The name became “Migratory Bird Hunting and Conservation Stamp” with the 1977-78 stamp to reflect the broader conservation aspects and primary goal of the stamp. While the theme and inclusion of a hunting-related accessory and/or scene will be mandatory in the 2019-20 Federal Duck Stamp design, the central and dominant aspect is still a live portrayal of one of the five eligible waterfowl species.

Raising Funds for Wildlife Habitat Conservation

(5) Comment: Commenters questioned whether the proposed change would increase interest in the Duck Stamp Program and boost the annual sale of stamps. Several believed that recognizing the contributions of one group over others could be divisive, and the hunting theme could alienate non-consumptive buyers, such as stamp collectors or those expressing support for the National Wildlife Refuge System. Although these discretionary purchasers obtain the stamp for reasons other than “because it is mandatory,” their contribution also goes to the conservation of habitat. Lastly, several commenters mentioned the lack of a solid marketing strategy for Duck Stamps and the need for a marketing company to provide direction on boosting sales.

Service Response: The Federal Duck Stamp has been mandatory to hunt waterfowl for the past 85 years, and has been incredibly successful in conserving habitat for wildlife. By using the theme “celebrating our waterfowl hunting heritage” on the 2019-20 stamp, we are recognizing the conservation contributions (over $1 billion) made by millions of waterfowl hunters over this period.

We appreciate those who voluntarily help fund wildlife habitat conservation through their purchase of Federal Duck Stamps and will continue to encourage non-consumptive wildlife resource users, stamp collectors, and other conservationists to purchase Federal Duck Stamps to support migratory bird habitat conservation. Over the past several years, there has been a concerted effort to encourage purchase of the stamp by birders and other conservationists. We hope that current non-consumptive purchasers will recognize that hunting is part of the tradition behind the Federal Duck Stamp and will continue to support the conservation afforded by stamp sales. The inclusion of the “celebrating our waterfowl hunting heritage” theme provides the opportunity to present information on the history and tradition of waterfowl hunting in the United States. Lastly, comments regarding marketing the Duck Stamp are beyond the scope of this rule.

Artist Issues

(6) Comment: Several artists said that they will not be able to properly execute their designs between the time the rules are finalized for 2018 and the Contest due date. Most artists expressed resentment of changes that are not finalized more than 12 months ahead of the beginning of the Contest year and would prefer that we provide final Contest rules and each year's eligible species list at least 3 years ahead of the annual Contest open date. Adding mandatory elements with less than a year to research and gather reference materials, design, and then execute their entries will prevent some artists from entering the 2018 Contest.

Several commenters were upset with changing the waterfowl species previously advertised as being eligible.

Several artists felt that the mandatory “inclusion of a hunting accessory” would alienate or discourage many artists. By changing hunting elements from optional to mandatory, several artists stated that they will not enter the Contest on principle. Not all artists are waterfowl hunters or are part of the hunting culture, so they expressed the opinion that they would be at a severe disadvantage as to what qualifies as a hunting accessory. It was suggested that “hunting accessories” be kept as “optional” and the rules to read “recommended but not mandatory.”

Service Response: We understand the artists' desire to have rules available to them as early as possible and appreciate the amount of preparation and research needed before artists can design and execute their entries. Unfortunately, we are unable to provide final rules 12 to 36 months ahead of the relevant Contest date.

Regarding the eligible species list, the five “tentative” species first listed for 2018, as advertised in September 2016, were not considered the most appropriate species for depiction in a stamp illustrating the proposed “celebrating our waterfowl hunting heritage” theme. Five new species were selected for the 2018 Contest and advertised in October 2017, well ahead of the publication of the annual rules brochure. Reference materials for these five relatively common, widespread waterfowl species are readily available to most wildlife artists.

The change in species was advertised on our Duck Stamp website, as well as communicated to individual artists who had participated in the previous years' Contests and who had provided an active email address. Future years' eligible species lists are considered and denoted as “tentative” until the publication of the annual Contest brochure (usually in January).

It is not our intention to alienate potential Duck Stamp Contest artists. We hope that the proposed theme will encourage both artists and stamp purchasers to learn more about the rich tradition of waterfowl hunting. Decoys and hunting dogs are among the examples of elements that can be included to satisfy this requirement.

Artist Recognition

(7) Comment: To increase artist participation in the Contest, several commenters suggested that small prizes such as ribbons or other recognition items of low monetary value be awarded to Contest finalists.

Service Response: We will consider recognizing all artists whose entry successfully enters the final round of Contest judging. We may provide a ribbon or other small recognition item. All artists who enter the Contest will continue to receive a letter of appreciation from the Duck Stamp Office with the return of their artwork.

Entry Fees and Entries

(8) Comment: Several artists suggested lowering the entry fee to encourage additional artists to enter. Others believed that we should limit the number of times a person can win to twice.

Service Response: At the current fee of $125 per entry, approximately 500 entries would be needed to run the Contest entirely from artist entry fees. Due to the costs associated with the Contest, we do not anticipate lowering entry fees. We remain committed to providing a prestigious, well-ordered Contest.

Regarding the limiting of entries, in the 85-year history of the Program, there have been 60 different artists whose work has graced the Federal Duck Stamp. Thirteen artists have illustrated two or more stamps (36 of 70 open competitions). We do not anticipate changing the number of times that an artist can participate in the Contest, but we will continue to require winning artists to wait 3 years before entering again.

Judging Requirement/Scoring Assessment for 2018 Contest

(9) Comment: Three commenters were in opposition to the following proposed change: In 2018 only, it will also be mandatory that all selected judges have an understanding and appreciation of the waterfowl hunting heritage and be able to recognize waterfowl hunting accessories. The commenters believe that only the “best art for the stamp” should be the basis for the judges' decision and further believe that while the judging panel overall should have the necessary qualifications, individual judge selection should not be limited by a single restrictive requirement. One commenter expressed strong support that the judges have an understanding and appreciation for waterfowl hunting heritage.

Service Response: We will develop a slate of qualified nominees to be judges that will be forwarded to the Secretary of the Interior, or his designee, for concurrence. All potential judges will be deemed as qualified if they have one or more of the following qualifications: Recognized art credentials; knowledge of the anatomical makeup and the natural habitat of the eligible waterfowl species; an understanding of the wildlife sporting world in which the Duck Stamp is used; an awareness of philately and the role the Duck Stamp plays in stamp collecting; and demonstrated support for the conservation of waterfowl and wetlands through active involvement in the conservation community.

Duck Stamp Collectors

(10) Comment: Comments from those self-identifying as Duck Stamp collectors were mixed. Some believed that their collecting habits would decrease if the traditional Duck Stamp design was radically altered, while others believed that some variation from the standard design could be well accepted.

Service Response: As purchasers of the Federal Duck Stamp, collectors are valued customers and conservation partners. We do not believe that the winning artwork will create a stamp that will be radically different from historical stamps. We do not anticipate this rule will greatly impact whether or not collectors will purchase the 2019-20 Duck Stamp.

Eligible Species and Other Themes

(11) Comment: Several people commented on the species list of primary subjects eligible for selection each year, including a suggestion to rotate winning species to the bottom of the eligible species list since multiple stamps have featured the mallard, Canada goose, and wood duck. Another commenter suggested it was time to update the overall list from which each year's species are chosen, while one suggested different stamps for different flyways or U.S. territories might be a better way to increase funds for conservation.

Commenters also proposed several other themes with different required elements. A suggestion was also made that to require an “old-style black-and-white” version of the stamp for one year in order to highlight the history of the stamp and the role of collectors.

Service Response: Five or fewer species of waterfowl are chosen to be eligible for each year's Contest from a list of native North American waterfowl species. Artists are instructed to choose at least one of these eligible species as their dominant design feature. Canvasback and mallard have each appeared on six Federal Duck Stamps, wood duck on three. Twenty-four species have only been depicted once. Many of these 24 have been among the 5 eligible species provided annually as subjects and have been represented in the top three designs for many Contests.

Regarding the comment about using different stamps in different Flyways, while we agree that each Flyway may have preferred species for a Federal Duck Stamp, the cost and time required to produce four annual stamps would result in the loss of funds available for conservation. Likewise, the purpose of this rule is not to develop alternate themes, although we may consider some of these proposals in the future.

Carrier Design

(12) Comment: Several commenters indicated that providing recognition of and information on hunter contributions to wildlife conservation would be a positive thing for those who do not understand or who oppose hunting. Suggestions were made to include the proposed theme on the carrier or back of the stamp rather than as part of the stamp design itself.

Service Response: The carrier of the stamp—the area around the actual stamp on the pane of one, dollar-bill-size, pressure-sensitive adhesive stamp—is created by the stamp designer with input from the artist and the Federal Duck Stamp Office. It is the current practice of the Duck Stamp Office to include educational and celebratory information on the carrier of the stamp and on other products.

Depiction of Firearms

(13) Comment: Several commenters expressed negative opinions regarding hunting, as well as the possible representation of firearms as part of the stamp design.

Service Response: Issues regarding gun violence are beyond the scope of this rule. Hunting is a recognized wildlife management tool, and the Service supports the legal and ethical right of lawful hunters to use firearms to hunt wildlife. The 2018 Contest entry may include other appropriate items to fulfill the thematic requirement that a waterfowl hunting-related accessory and/or scene be included in a 2018 contestant's design.

Summary of Changes From the November 28, 2017, Proposed Rule

This rule includes no significant changes based on public comments to the proposed rule published on November 28, 2017 (82 FR 56201).

As an administrative update, this rule does newly specify the delivery address of artwork submitted to the Contest at 50 CFR 91.16(b).

Amendments to Existing Regulations

This rule contains the following changes to the regulations:

• We update contact information at §§ 91.1(b), 91.11, and 91.16(b).

• We update the common and scientific names and ordering of eligible species listed at § 91.4.

• We set forth the 2018 Contest restriction on subject matter for entries at § 91.14(b).

• We remove and reserve § 91.15.

• We set forth an additional judge qualification for the 2018 Contest at § 91.21(b)(2).

• We set forth language at § 91.23(b) to reflect the mandatory theme to be applied in the 2018 Contest.

Actions specific to the 2018 Contest will be valid only for the 2018 Contest; they will no longer be valid after September 16, 2018. We will engage in rulemaking sometime after September 16, 2018, to remove the requirements specific to the 2018 Contest from the regulations.

Required Determinations

For this final rule, we affirm the following required determinations provided in our November 28, 2017, proposed rule (82 FR 56201):

• Regulatory Flexibility Act (5 U.S.C. 601 et seq.); and

• Executive Order (E.O.) 13771.

Further, for this final rule, we affirm the following required determinations provided in our February 11, 2016, proposed rule (81 FR 7279):

• Small Business Regulatory Enforcement Fairness Act (5 U.S.C. 804(2));

• Unfunded Mandates Reform Act (2 U.S.C. 1531 et seq.);

• Paperwork Reduction Act of 1995 (44 U.S.C. 3501 et seq.);

• National Environmental Policy Act (42 U.S.C. 4321 et seq.); and

• Executive Orders 12630, 12866, 12988, 13132, 13175, 13211, and 13563.

List of Subjects in 50 CFR Part 91

Hunting, Wildlife.

Regulation Promulgation

For the reasons stated in the preamble, we amend 50 CFR part 91, as set forth below:

PART 91—MIGRATORY BIRD HUNTING AND CONSERVATION STAMP CONTEST

1. The authority citation for part 91 continues to read as follows:

Authority: 5 U.S.C. 301; 16 U.S.C. 718j; 31 U.S.C. 9701.

2. Amend § 91.1(b) by revising the third sentence to read as follows:

§ 91.1 Purpose of regulations.

* * * * *

(b) * * * These documents can also be downloaded from our website at: http://www.fws.gov/birds/get-involved/duck-stamp.php.

* * * * *

3. Revise § 91.4 to read as follows:

§ 91.4 Eligible species.

Five or fewer of the species listed below will be identified as eligible each year; those eligible species will be provided to each contestant with the information provided in § 91.1.

(a) Whistling-Ducks. (1) Fulvous Whistling-Duck (Dendrocygna bicolor).

(2) Black-bellied Whistling-Duck (Dendrocygna autumnalis).

(b) Geese. (1) Emperor Goose (Anser canagicus).

(2) Snow Goose (including “white” and “blue” morphs) (Anser caerulescens).

(3) Ross's Goose (Anser rossii).

(4) Greater White-fronted Goose (Anser albifrons).

(5) Brant (Branta bernicla).

(6) Cackling Goose (Branta hutchinsii).

(7) Canada Goose (Branta canadensis).

(c) Swans. (1) Trumpeter Swan (Cygnus buccinator).

(2) Tundra Swan (Cygnus columbianus).

(d) Dabbling Ducks. (1) Wood Duck (Aix sponsa).

(2) Blue-winged Teal (Spatula discors).

(3) Cinnamon Teal (Spatula cyanoptera).

(4) Northern Shoveler (Spatula clypeata).

(5) Gadwall (Mareca strepera).

(6) American Wigeon (Mareca americana).

(7) Mallard (Anas platyrhynchos).

(8) American Black Duck (Anas rubripes).

(9) Mottled Duck (Anas fulvigula).

(10) Northern Pintail (Anas acuta).

(11) Green-winged Teal (Anas crecca).

(e) Diving Ducks. (1) Canvasback (Aythya valisineria).

(2) Redhead (Aythya americana).

(3) Ring-necked Duck (Aythya collaris).

(4) Greater Scaup (Aythya marila).

(5) Lesser Scaup (Aythya affinis).

(f) Sea-Ducks. (1) Steller's Eider (Polysticta stelleri).

(2) Spectacled Eider (Somateria fischeri).

(3) King Eider (Somateria spectabilis).

(4) Common Eider (Somateria mollissima).

(5) Harlequin Duck (Histrionicus histrionicus).

(6) Surf Scoter (Melanitta perspicillata).

(7) White-winged Scoter (Melanitta fusca).

(8) Black Scoter (Melanitta americana).

(9) Long-tailed Duck (Clangula hyemalis).

(10) Bufflehead (Bucephala albeola).

(11) Common Goldeneye (Bucephala clangula).

(12) Barrow's Goldeneye (Bucephala islandica).

(g) Mergansers. (1) Hooded Merganser (Lophodytes cucullatus).

(2) Common Merganser (Mergus merganser).

(3) Red-breasted Merganser (Mergus serrator).

(h) Stiff Tails. (1) Ruddy Duck (Oxyura jamaicensis).

(2) [Reserved]

4. Revise § 91.11 to read as follows:

§ 91.11 Contest opening date and entry deadline.

The contest officially opens on June 1 of each year. Entries must be postmarked no later than midnight, August 15. For the latest information on contest time and place as well as all deadlines, please visit our website at http://www.fws.gov/birds/get-involved/duck-stamp.php or call (703) 358-2145.

5. Revise § 91.14 to read as follows:

§ 91.14 Restrictions on subject matter for entry.

(a) General restrictions. A live portrayal of any bird(s) of the five or fewer identified eligible waterfowl species must be the dominant feature of the design. The design may depict more than one of the eligible species. The judges' overall mandate is to select the best design that will make an interesting, useful, and attractive duck stamp that will be accepted and prized by hunters, stamp collectors, conservationists, and others. The design must be the contestant's original hand-drawn creation. The entry design may not be copied or duplicated from previously published art, including photographs, or from images in any format published on the internet. Photographs, computer-generated art, or art produced from a computer printer or other computer/mechanical output device (airbrush method excepted) are not eligible to be entered into the contest and will be disqualified. An entry submitted in a prior contest that was not selected for a Federal or State stamp design may be submitted in the current contest if the entry meets the criteria set forth in this section.

(b) The 2018 Contest. In addition to the restrictions set forth in paragraph (a) of this section, in 2018 only, designs will also be required to include appropriate hunting-related accessories and/or scenes celebrating the Federal Duck Stamp's long-standing connection as part of our Nation's waterfowl hunting heritage and the contributions to conservation made by waterfowl hunters. Designs may include, but are not limited to, hunting dogs, hunting scenes, hunting equipment, waterfowl decoys, managed waterfowl areas as the background of habitat scenes, or other designs that represent our waterfowl hunting heritage. The design chosen will clearly meet the theme of “celebrating our waterfowl hunting heritage.”

§ 91.15 [Removed and Reserved]

6. Remove and reserve § 91.15.

7. Revise § 91.16(b) to read as follows:

§ 91.16 Submission procedures for entry.

* * * * *

(b) Each entry should be appropriately wrapped to protect the artwork and then either hand-delivered or sent by registered mail, certified mail, express mail, or overnight delivery service to: Federal Duck Stamp Contest, U.S. Fish and Wildlife Service, MS: MB, 5275 Leesburg Pike, Falls Church, VA 22041.

8. In § 91.21, designate the text of paragraph (b) as paragraph (b)(1) and add a heading for newly designated paragraph (b)(1) and paragraph (b)(2) to read as follows:

§ 91.21 Selection and qualification of contest judges.

* * * * *

(b) Qualifications—(1) General qualifications. * * *

(2) The 2018 Contest. In 2018 only, it will also be mandatory that all selected judges have an understanding and appreciation of the waterfowl hunting heritage and be able to recognize waterfowl hunting accessories.

* * * * *

9. Revise § 91.23 to read as follows:

§ 91.23 Scoring criteria for contest.

(a) General criteria. Entries will be judged on the basis of anatomical accuracy, artistic composition, and suitability for reduction in the production of a stamp.

(b) The 2018 Contest. In 2018 only, entries will also be judged on how well they illustrate the theme of “celebrating our waterfowl hunting heritage.”

Dated: February 27, 2018.
Jason Larrabee,
Principal Deputy Assistant Secretary for Fish and Wildlife and Parks, exercising the authority of the Assistant Secretary for Fish and Wildlife and Parks.

[FR Doc. 2018-05588 Filed 3-20-18; 8:45 am]

BILLING CODE 4333-15-P